DEPARTMENT OF THE INTERIOR

Bureau of Reclamation

[INT-DES-02-51]

Banks Lake Drawdown, Columbia Basin Project, Washington

AGENCY: Bureau of Reclamation, Interior.

ACTION: Notice of availability and notice of public hearings for the Banks Lake Drawdown, Washington, draft Environmental Impact Statement.

SUMMARY: Pursuant to section 102(2)(C) of the National Environmental Policy Act of 1969, as amended, the Department of the Interior, Bureau of Reclamation (Reclamation), has prepared a draft Environmental Impact Statement (Draft EIS) to examine the impacts of alternatives to lower the minimum surface elevation for Banks Lake in August from 1,565 feet to 1,560 feet.

The action alternative describes the resource conditions that would occur between Banks Lake surface elevations of 1,570 feet and 1,560 feet, while the no action alternative describes the conditions that would occur without the proposed action, between surface elevation 1,570 feet and 1,565 feet. Both the no action and action alternatives include four potential operational scenarios that could occur within their respective ranges.

The action alternative includes a refill of the reservoir to elevation 1,565 feet, beginning September 1 and ending no later than September 10.

DATES: Written comments on the draft EIS must be received no later than March 10, 2003, at the address listed under the ADDRESSES section below.

Public hearings will be held to accept oral comments on the draft EIS at:

• Coulee City, Washington, on February 11, 2003, from 7 to 9 p.m. and,

• Moses Lake, Washington, on February 12, 2003, from 1:30 to 3:30 p.m.

The public hearing facilities are physically accessible. Please contact Mr. Blanchard at the telephone, fax or TTY relay numbers listed under the FOR FURTHER INFORMATION CONTACT section of this notice for accessibility accommodations, including sign language interpreters or other auxiliary aids. Requests should be made by January 31, 2003, to allow sufficient time to arrange for accommodation.

ADDRESSES: The public hearings will be held at:

• Coulee City Elementary School, 410 W. Locust, Coulee City, Washington, and,

• District 5 Fire Station Training Facility, 12801 Nelson Road, Moses Lake, Washington.

Written comments on the draft EIS should be submitted to Mr. Jim Blanchard, Special Projects Officer, Bureau of Reclamation, 32 C Street, P.O. Box 815, Ephrata, WA 98823-0815; or by fax 509-754-0239, or by e-mail at: jblanchard@pn.usbr.gov.

See the SUPPLEMENTARY INFORMATION section below for locations where copies of the DEIS are available for public review and inspection.

FOR FURTHER INFORMATION CONTACT: Mr. Jim Blanchard, Special Projects Officer, at 509-754-0226 (relay users may dial 711). Those wishing to obtain a copy of the draft EIS in the form of a printed document or on compact disk (CD-ROM with reader included) or a summary of the draft EIS may contact Mr. Blanchard.

SUPPLEMENTARY INFORMATION:

Public Disclosure

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

Hearing Process Information

Requests to make oral comments at the public hearings may be made at each hearing. Comments will be recorded by a court reporter. Speakers will be called in the order of their requests. In the interest of available time, each speaker will be asked to limit oral comments to five minutes. Longer comments should be summarized at the public hearing and submitted in writing either at the public hearing or identified as hearing comments and mailed to be received by Mr. Blanchard no later than March 10, 2003.

Background

Since its creation in the early 1950s, Banks Lake has been operated and maintained for the storage and delivery of irrigation water drawn from the Columbia River to Columbia Basin Project (CBP) lands. At Dry Falls Dam, the Main Canal flows south from the Banks Lake outlet works to the northern portion of the CBP's irrigable area. Reclamation operates the reservoir within established constraints on water surface elevation to met contractual obligations, ensure public safety, and protect property. Reclamation considers other resource needs as feasible within existing operational constraints.

In December of 2000, the National Marine Fisheries Service issued a Biological Opinion (BIOP) to the Bureau of Reclamation, the U.S. Army Corps of Engineers, and Bonneville Power Administration for the operation of the Federal Columbia River Power System. The BIOP included a Reasonable and Prudent Alternative (RPA), of which action 31 advised Reclamation to “assess the likely environmental effects of operation of Banks Lake up to 10 feet down from full pool during August.”

Reclamation proposes to complete RPA action 31 by preparing the Banks Lake Drawdown draft Environmental Impact Statement to describe and analyze the environmental effects of lowering the August surface elevation of Banks Lake to elevation 1560 feet, which is 10 feet below full pool.

Review and Inspection of the DEIS

Copies of the DEIS are available for public review and inspection at the following locations:

• Bureau of Reclamation, U.S. Department of the Interior, Room 7455, 18th and C Streets, NW., Washington, DC 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

• Bureau of Reclamation, Ephrata Field Office, 32 C Street, Ephrata, Washington 98823.

Libraries

• Bridgeport Community Library, Douglas County, 1206 Columbia St., Bridgeport, WA 509-686-7281.

• Coulee City Community Library, 405 W. Main St., Coulee City, WA 509-674-2313.

• Des Moines Library, 21620 11th Ave S, Des Moines, WA 206-824-6066.

• East Wenatchee Community Library, Douglas County, 271 9th St NE, East Wenatchee, WA 509-886-7404.

• Ephrata Public Library, 45 Alder NW, Ephrata, WA 509-754-3971.

• Grand Coulee Community Library, 225 Federal, Grand Coulee, WA 509-633-0972.

• Moses Lake Public Library, 418 E. 5th Ave, Moses Lake, WA 509-765-3489.

• Quincy Community Library, 108 B St SW., Quincy, WA 509-787-2359.

• Royal City Community Library, 356 Camelia, Royal City, WA 509-346-9281.

• Seattle Public Library, 800 Pike St, Seattle, WA 206-386-4636.

• Soap Lake Community Library, 32 E. Main, Soap Lake, WA 509-246-1313.

• Warden Community Library, 305 S. Main, Warden, WA 509-349-2226.

• Wenatchee Public Library, Chelan County, 310 Douglas St, Wenatchee, WA 509-662-5021.

Internet

The DEIS is also available on the Internet at http://www.pn.usbr.gov.

Dated: December 20, 2002.
J. William McDonald,
Regional Director, Pacific Northwest Region, Bureau of Reclamation.

[FR Doc. 03-387 Filed 1-8-03; 8:45 am]

BILLING CODE 4310-MN-P